DEPARTMENT OF COMMERCE

Census Bureau

Agency Information Collection Activities; Submission to the Office of Management and Budget (OMB) for Review and Approval; Comment Request; American Community Survey and Puerto Rico Community Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the American Community Survey and Puerto Rico Community Survey, prior to the submission of the information collection request (ICR) to OMB for approval.

DATES: To ensure consideration, comments regarding this proposed information collection must be received on or before November 14, 2022.

ADDRESSES: Interested persons are invited to submit written comments by email to acso.pra@census.gov. Please reference the American Community Survey and the Puerto Rico Community Survey in the subject line of your comments. You may also submit comments, identified by Docket Number USBC-2022-0014, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Dameka Reese, U.S. Census Bureau, American Community Survey Office, 301-763-3804, dameka.m.reese@census.gov.

SUPPLEMENTARY INFORMATION:

I. Abstract

Since its founding, the U.S. Census Bureau has balanced the demands of a growing country requiring information about its people and economy with concerns for respondents' confidentiality and the time and effort it takes respondents to answer questions. Beginning with the 1810 Census, Congress updated the set of questions asked in the 1790 and 1800 Censuses by adding questions to support a range of public concerns and uses. Over the course of a century, Federal agencies requested to add questions about agriculture, industry, and commerce, as well as individuals' occupation, ancestry, marital status, disabilities, place of birth, and other topics. In 1940, the Census Bureau introduced the long-form census questionnaire in order to ask more detailed questions to a sample of the public.

In the early 1990s, the demand for current, nationally consistent data from a wide variety of users led Federal government policymakers to consider the feasibility of collecting social, economic, and housing data continuously throughout the decade. The benefits of providing current data, along with the anticipated decennial census benefits in cost savings, planning, improved census coverage, and more efficient operations, led the Census Bureau to plan the implementation of the Continuous Measurement Survey, later called the American Community Survey (ACS). After years of testing, the ACS was implemented in 2005 replacing the need for long-form data collection in future decennial censuses. The ACS is conducted throughout the United States and in Puerto Rico, where it is called the Puerto Rico Community Survey (PRCS). The ACS samples approximately 3.5 million housing unit addresses in the United States and about 36,000 housing unit addresses in Puerto Rico each year. A housing unit is a house, an apartment, a mobile home, a group of rooms, or a single room occupied or intended for occupancy as separate living quarters. The ACS also collects detailed socioeconomic data from a sample of about 170,000 residents living in group quarters facilities in the United States and about 900 in Puerto Rico. Group quarters are places where people live or stay, in a group living arrangement that is owned or managed by an entity or organization providing housing and/or services for the residents. People living in group quarters usually are not related to each other. Group quarters include such places as college/university student housing, residential treatment centers, skilled nursing facilities, group homes, military barracks, correctional facilities, workers' group living quarters and Job Corps centers, and emergency and transitional shelters.

In 2024, the ACS plans to add an internet self-response option to the group quarters data collection operation. The Census Bureau believes there is value in offering a self-response option to people living in certain types of group quarters—college/university student housing, group homes, military barracks, workers' group living quarters and Job Corps centers, and emergency and transitional shelters.

Beginning with the 2024 data collection year, the ACS will use administrative data. The Census Bureau is obligated by law (title 13, U.S. Code) to use existing information that has already been collected by other government agencies, whenever possible and consistent with the kind, timeliness, quality and scope of the statistics required, instead of asking for such information directly from the public. The Census Bureau is allowed to use these data for statistical purposes only and may not use these records for enforcement purposes or to decide on eligibility for a benefit. Additionally, Census Bureau research has shown that using administrative data can reduce respondent burden and improve the quality of the ACS data. The Census Bureau is focusing initial efforts to supplement or replace ACS survey data for several housing characteristics with administrative data from other sources, such as property tax records. At a minimum, administrative data will be used for the question asking about property acreage beginning in 2024. Implementation for other housing items, such as agricultural sales and year built, may start later.

In addition to using administrative records and in coordination with the Office of Management and Budget Interagency Committee for the ACS, the Census Bureau solicited proposals for question changes or additions from more than 20 Federal agencies. Approved topics underwent cognitive testing to verify that proposed question wording would be understood by respondents. Based on cognitive testing results, the Census Bureau proposes to update wording in 2024 for questions on three topics: condominium fees, home heating fuel, and journey to work. The Census Bureau proposes to implement these three topics without additional testing; other topics are still undergoing testing.

The condominium fees question would be extended to include homeowners' association (HOA) fees. Data sources continue to show housing units that are part of HOAs outnumber housing units in condominiums. In order to provide more comprehensive and accurate costs of owning a home, the ACS needs to capture HOA fees for these homes. Adding these fees to the existing condominium fees question avoids adding a new question to the ACS and therefore minimizes respondent burden.

The change to the home heating fuel question would update the natural gas and bottled gas categories. This will aid respondents in identifying the correct category more easily by using more commonly used terminology.

The journey to work question would be updated to include ride-sharing services as a mode of transportation to work to account for new and growing travel trends. This will reduce ambiguity in the current question about where respondents should report ride-sharing commutes and will allow the government to monitor changes in transportation patterns for planning purposes.

II. Method of Collection

To encourage self-response in the ACS, the Census Bureau sends up to five mailings to housing unit addresses selected to be in the sample. The first mailing, sent to all mailable addresses in the sample, includes an invitation to participate in the ACS online and states that a paper questionnaire will be sent in a few weeks to those unable to respond online. The second mailing is a letter that reminds respondents to complete the survey online, thanks them if they have already done so, and informs them that a paper questionnaire will be sent at a later date if we do not receive their response. In a third mailing, the paper questionnaire is sent only to those sample addresses that have not completed the online questionnaire within two weeks of receipt of the first mailing. The fourth mailing is a postcard that reminds respondents to respond and informs them that an interviewer may contact them if they do not complete the survey. A fifth mailing is sent to respondents who have not completed the survey within five weeks. This letter provides a due date and reminds the respondents to return their questionnaires to be removed from future contact. If a respondent starts to answer the survey online and provides an email address but does not complete the survey, an email will be sent to the respondent to remind them to return to the survey to complete their online questionnaire. If the Census Bureau does not receive a response or if the household refuses to participate, the address may be selected for an interview in-person or by telephone by a Census Bureau field representative, which we call the nonresponse follow-up data collection operation. Respondents also have the option to call the Telephone Questionnaire Assistance line and complete the survey over the telephone. A small sample of respondents from the nonresponse follow-up data collection operation are recontacted for quality assurance purposes.

Some addresses are deemed unmailable because the address is incomplete or directs mail only to a post office box. The Census Bureau currently collects data for these housing units using both online and computer-assisted personal interviewing by a Census Bureau field representative. During the person-level phase, a field representative uses a computer-assisted personal interview automated instrument to collect detailed information for each sampled resident. A small sample of respondents from the nonresponse follow-up data collection operation are recontacted for quality assurance purposes.

For sample housing units in the Puerto Rico Community Survey (PRCS), a different mail strategy is employed. The Census Bureau continues to use the previously used mail strategy with no references to an internet response option. The Census Bureau sends up to five mailings to a Puerto Rico address selected to be in the sample. The first mailing includes a prenotice letter. The second and fourth mailings include the paper survey. The third and fifth mailings are postcards that serve as a reminder to respond to the survey. If the Puerto Rico address is deemed unmailable because the address is incomplete or directs mail only to a post office box, the address may be selected for an interview in-person or by telephone. A small sample of respondents from the nonresponse follow-up data collection operation are recontacted for quality assurance purposes.

The Census Bureau employs a separate strategy to collect data from group quarters. The Census Bureau collects data for sampled people in group quarters through personal interview and telephone interview. The Census Bureau will obtain the facility information by conducting a telephone or personal visit interview with a group quarter contact. During this interview, the Census Bureau obtains a roster of residents and randomly selects them for person-level interviews. The facility also has the option of uploading their facility roster to the Census Bureau online listing application. During the person-level phase, a field representative uses a computer-assisted personal interview automated instrument to collect detailed information for each sampled resident. The field representative also has the option to distribute a bilingual (English/Spanish) questionnaire to residents for self-response if they are unable to complete a computer-assisted personal interview. Beginning in 2024, respondents in some group quarters will have the option to self-respond to the survey online. A small sample of facilities are recontacted for quality assurance purposes.

III. Data

OMB Control Number: 0607-0810.

Form Number(s): ACS-1, ACS-1(SP), ACS-1(PR), ACS-1(PR)SP, ACS-1(GQ), ACS-1(PR)(GQ), GQFQ, ACS CAPI (HU), ACS RI (HU), AGQ QI, and AGQ RI.

Type of Review: Regular submission, request for a revision of a currently approved collection.

Affected Public: Individuals or households.

Estimated Number of Respondents: 3,576,000 for household respondents; 20,100 for contacts in GQ; 170,900 people in GQ; 22,875 households for reinterview; and 1,422 GQ contacts for reinterview. The total estimated number of respondents is 3,791,297.

Estimated Time per Response: 40 minutes for the average household questionnaire; 15 minutes for a GQ facility questionnaire; 25 minutes for a GQ person questionnaire; 10 minutes for a household reinterview; 10 minutes for a GQ-level reinterview.

Estimated Total Annual Burden Hours: 2,384,000 for household respondents; 5,025 for contacts in GQ; 71,208 for GQ residents 3,813 households for reinterview; and 237 GQ contacts for reinterview. The estimate is an annual average of 2,464,283 burden hours.

Table 1—Annual ACS and PRCS Respondent and Burden Hour Estimates
Data collection operation | Forms or instrument used in data collection | Annual estimated number of respondents | Estimated minutes per respondent by data collection activity | Annual estimated burden hours
I. ACS Household Questionnaire, Online Survey, Telephone, and Personal Visit | ACS-1, ACS 1(SP), ACS-1PR, ACS-1PR(SP), Online Survey, Telephone, CAPI | 3,576,000 | 40 | 2,384,000
II. ACS GQ Facility Questionnaire CAPI—Telephone and Personal Visit | CAPI GQFQ | 20,100 | 15 | 5,025
III. ACS GQ CAPI Personal Interview or Telephone, and Paper Self-response | CAPI, ACS-1(GQ), ACS-1(GQ)(PR) | 170,900 | 25 | 71,208
IV. ACS Household Reinterview—CATI/CAPI | ACS HU-RI | 22,875 | 10 | 3,813
V. ACS GQ-level Reinterview—CATI/CAPI | ACS GQ-RI | 1,422 | 10 | 237
Totals |  | 3,791,297 | N/A | 2,464,283

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. 141 and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-19705 Filed 9-12-22; 8:45 am]

BILLING CODE 3510-07-P